DEPARTMENT OF COMMERCE

National Oceanic and Atmospheric Administration

RIN 0648-XV052

North Pacific Fishery Management Council; Public Meeting

AGENCY: National Marine Fisheries Service (NMFS), National Oceanic and Atmospheric Administration (NOAA), Commerce.

ACTION: Notice of public meeting.

SUMMARY: The North Pacific Fishery Management Council (Council) Fishery Monitoring Advisory Committee will meet September 23, 2019 through September 24, 2019.

DATES: The meeting will be held on Monday, September 23, 2019, from 9 a.m. to 5 p.m. and on Tuesday, September 24, 2019, from 9 a.m. to 5 p.m., Pacific Standard Time.

ADDRESSES: The meeting will be held in Building 4, Marine Mammal Conference Room (2039), at the Alaska Fisheries Science Center, 7600 Sand Point Way NE, Seattle, WA 98115. Teleconference number: (877) 953-6215; pin 4546455.

Council address: North Pacific Fishery Management Council, 605 W. 4th Ave., Suite 306, Anchorage, AK 99501-2252; telephone: (907) 271-2809.

FOR FURTHER INFORMATION CONTACT: Diana Evans, Council staff; telephone: (907) 271-2809.

SUPPLEMENTARY INFORMATION:

Agenda

Monday, September 23, 2019 to Tuesday, September 24, 2019

The agenda will include: Strategic review of fishery monitoring committee roles; review revisions of the observer fee analysis; EM updates; a review of the draft 2020 Observer Annual Deployment Plan; review Observer working conditions; review observer analytical task status; scheduling, and other issues.

The Agenda is subject to change, and the latest version will be posted at meetings.npfmc.org/Meeting/Details/906 prior to the meeting, along with meeting materials.

Public Comment

Public comment letters will be accepted and should be submitted either electronically to meetings.npfmc.org/Meeting/Details/906 or through the mail: North Pacific Fishery Management Council, 605 W. 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Authority: 16 U.S.C. 1801 et seq.

Dated: September 4, 2019.
Tracey L. Thompson,
Acting Deputy Director, Office of Sustainable Fisheries, National Marine Fisheries Service.

[FR Doc. 2019-19379 Filed 9-6-19; 8:45 am]

BILLING CODE 3510-22-P